INTERNATIONAL TRADE COMMISSION

[Investigation No. 337-TA-859]

Certain Integrated Circuit Chips and Products Containing the Same; Commission's Determination To Affirm in Part, Reverse in Part and Vacate in Part the Final Initial Determination Finding No Violation; Termination of the Investigation

AGENCY: U.S. International Trade Commission.

ACTION: Notice.

SUMMARY: Notice is hereby given that the U.S. International Trade Commission has determined to affirm in part, reverse in part, and vacate in part the final initial determination (“ID”) issued by the presiding administrative law judge (“ALJ”) on March 21, 2014, finding no violation of section 337 of the Tariff Act of 1930, as amended, 19 U.S.C. 1337. The Commission finds no violation of section 337 and terminates the investigation.

FOR FURTHER INFORMATION CONTACT: Amanda Pitcher Fisherow, Office of the General Counsel, U.S. International Trade Commission, 500 E Street SW., Washington, DC 20436, telephone (202) 205-2737. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on October 23, 2012, based on a complaint filed by Realtek Semiconductor Corporation (“Realtek”) of Hsinchu, Taiwan alleging violations of section 337 of the Tariff Act of 1930 (19 U.S.C. 1337), as amended, by reason of infringement of certain claims of U.S. Patent Nos. 6,787,928 (“the '928 patent”) and 6,963,226 (“the '226 patent”). 77 FR 64826. The notice of investigation named as respondents LSI Corporation of Milpitas, California; and Seagate Technology of Cupertino, California (collectively “Respondents”). The '226 patent was terminated from the investigation.

On March 21, 2014, the ALJ issued her final ID finding no violation of section 337. The ALJ held that no violation occurred in the importation into the United States, the sale for importation, or the sale within the United States after importation of certain integrated circuit chips and products containing the same that infringe one or more of claims 1-10 of the '928 patent. Although the ALJ found that the asserted claims were infringed, the ALJ held claims 1-10 of the '928 patent invalid and found that no domestic industry exists.

On April 4, 2014, Realtek filed a petition for review, and on April 7, 2014, Respondents filed a contingent petition for review. The parties timely responded to each other's petitions for review.

On May 22, 2014, the Commission determined to review the ID in part. The Commission sought briefing on seventeen questions and on the issues of remedy, public interest and bonding. On June 5, 2014, the parties filed their initial briefs on review and on June 16, 2014, the parties filed their responsive briefs.

Having considered the record and the parties' submissions, the Commission finds that no violation of section 337 has occurred. Specifically, the Commission affirms in part, reverses in part, and vacates in part to find that (1) all of the accused products infringe claims 1-3, and 6-10 of the '928 patent; (2) the FireWire chips also infringe claims 4-5; (3) the MS410B and MS410B2 chips anticipate claims 1-3 and 6-9; (4) the MS410B and MS410B2 chips do not anticipate claim 10; (5) the Ker application does not anticipate claims 1-10; (6) claims 4-5 are obvious in view of the MS410B and MS410B2 chips and the Ker application; and (7) a domestic industry does not exist.

The authority for the Commission's determination is contained in section 337 of the Tariff Act of 1930, as amended (19 U.S.C. 1337), and in Part 210 of the Commission's Rules of Practice and Procedure (19 CFR Part 210).

By order of the Commission.
Issued: July 21, 2014.
Lisa R. Barton,
Secretary to the Commission.

[FR Doc. 2014-17510 Filed 7-24-14; 8:45 am]

BILLING CODE 7020-02-P